DEPARTMENT OF COMMERCE

International Trade Administration

[C-570-944]

Certain Oil Country Tubular Goods from the People's Republic of China: Postponement of Preliminary Determination in the Countervailing Duty Investigation

AGENCY: Import Administration, International Trade Administration, Department of Commerce.

EFFECTIVE DATE: June 15, 2009.

FOR FURTHER INFORMATION CONTACT: Joseph Shuler or Nancy Decker, AD/CVD Operations, Import Administration, International Trade Administration, U.S. Department of Commerce, 14th Street and Constitution Avenue, NW, Washington, DC 20230; telephone: (202) 482-1293 and (202) 482-0196, respectively.

SUPPLEMENTARY INFORMATION:

Background

On May 5, 2009, the Department of Commerce (the “Department”) initiated an investigation of certain oil country tubular goods from the People's Republic of China (“PRC”). See Certain Oil Country Tubular Goods from the People's Republic of China: Initiation of Countervailing Duty Investigation, 74 FR 20678 (May 5, 2009). Currently, the preliminary determination is due no later than July 2, 2009.

Postponement of Due Date for Preliminary Determination

Under section 703(c)(1)(B) of the Tariff Act of 1930, as amended (the “Act”), the Department may extend the period for reaching a preliminary determination in a countervailing duty investigation until no later than the 130th day after the date on which the administering authority initiates an investigation, if the administration determines that the parties are cooperating and the case is extraordinarily complicated. The Department finds that the instant case is extraordinarily complicated by reason of the number and complexity of the alleged countervailable subsidy practices, the need to determine the extent to which particular countervailable subsidies are used by individual manufacturers, producers, and exporters, and the number of firms whose activities must be investigated. Accordingly, we are fully extending the due date for the preliminary determination to no later than 130 days after the day on which the investigation was initiated (i.e., September 5, 2009). However, September 5, 2009, falls on a Saturday and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary determination is now no later than September 8, 2009.

This notice is issued and published pursuant to section 703(c)(2) of the Act and 19 CFR 351.205(e).

Dated: June 8, 2009.
Carole Showers,
Acting Deputy Assistant Secretary For Policy and Negotiations.

[FR Doc. E9-14037 Filed 6-12-09; 8:45 am]

BILLING CODE 3510-DS-S